DEPARTMENT OF COMMERCE

National Oceanic and Atmospheric Administration

Proposed Information Collection; Comment Request; Alaska Pacific Halibut Fisheries: Charter Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 24, 2017.

ADDRESSES: Direct all written comments to Jennifer Jessup, Departmental Paperwork Clearance Officer, Department of Commerce, Room 6616, 14th and Constitution Avenue NW., Washington, DC 20230 (or via the Internet at pracomments@doc.gov).

An electronic copy of the most recent supporting statement for this information collection is available from http://www.cio.noaa.gov/itmanagement/pdfs/0592ext14.pdf.

FOR FURTHER INFORMATION CONTACT: Requests for additional information or copies of the information collection instrument and instructions should be directed to Kurt Iverson (907) 586-7228 or kurt.iverson@noaa.gov.

SUPPLEMENTARY INFORMATION:

I. Abstract

This request is for an extension of a currently approved information collection.

The Alaska Pacific Halibut Charter Program established Federal Charter Halibut Permits (CHPs) for operators in the charter halibut fishery in IPHC regulatory Areas 2C (Southeast Alaska) and 3A (Central Gulf of Alaska). Since February 1, 2011, all vessel operators in Areas 2C and 3A with charter anglers onboard catching and retaining Pacific halibut must have a valid CHP onboard during every charter vessel fishing trip. CHPs must be endorsed with the appropriate regulatory area and number of anglers.

The National Marine Fisheries Service (NMFS) implemented this program based on recommendations by the North Pacific Fishery Management Council to meet allocation objectives in the charter halibut fishery. This program provides stability in the fishery by limiting the number of charter vessels that may participate in Areas 2C and 3A and decreasing the overall number of available CHPs over time. The program goals are to increase the value of the resource, limit boats to qualified active participants in the guided sport halibut sector, and enhance economic stability in rural coastal communities.

II. Method of Collection

Methods of submittal include mail and facsimile transmission of paper forms. Fillable pdfs are available on the NMFS Alaska Region Web page and may be downloaded, completed, and printed out prior to submission.

III. Data

OMB Control Number: 0648-0592.

Form Number: None.

Type of Review: Regular submission (extension of a currently approved collection).

Affected Public: Business or other for-profit organizations.

Estimated Number of Respondents: 68.

Estimated Time per Response: 2 hours for Application for Transfer of Charter Halibut Permit; 0.5 hours for Application for Military Charter Permit; 2 hours for Application for Transfer between IFQ and Guided Angler Fish (GAF); and 4 hours for Appeals if an Application for Transfer between IFQ and GAF is denied by NMFS.

Estimated Total Annual Burden Hours and Equivalent Labor Costs to the Public: 98 hours and $3,626 per year ($37 per hour for preparing and submitting applications and $125/hr for preparing an appeal).

Estimated Total Annual Cost to Public: $196 in recordkeeping/reporting costs for photocopying, obtaining a notarized signature, faxing, or mailing applications.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 20, 2017.
Sarah Brabson,
NOAA PRA Clearance Officer.

[FR Doc. 2017-20398 Filed 9-22-17; 8:45 am]

BILLING CODE 3510-22-P